DEPARTMENT OF THE INTERIOR

Bureau of Safety and Environmental Enforcement

30 CFR Part 250

Bureau of Ocean Energy Management

30 CFR Part 550

[Docket ID: BSEE-2019-0008, EEEE500000, 21XE1700DX, EX1SF0000.EAQ000]

RIN 1082-AA01

Oil and Gas and Sulfur Operations in the Outer Continental Shelf—Revisions to the Requirements for Exploratory Drilling on the Arctic Outer Continental Shelf; Reopening of Comment Period

AGENCY: Bureau of Safety and Environmental Enforcement (BSEE); Bureau of Ocean Energy Management (BOEM), Department of the Interior.

ACTION: Proposed rule; extension of public comment period.

SUMMARY: The Department of the Interior (DOI or Department), acting through BSEE and BOEM, is reopening the comment period for Proposed Rule: Oil and Gas and Sulfur Operations in the Outer Continental Shelf—Revisions to the Requirements for Exploratory Drilling on the Arctic Outer Continental Shelf, which was published in the Federal Register on December 9, 2020.

DATES: BSEE and BOEM are reopening the comment period for the proposed rule published December 9, 2020 at 85 FR 79266 until April 9, 2021. You may also submit comments to the Office of Management and Budget (OMB) on the information collection burden in this proposed rule by April 9, 2021. The deadline for comments on the information collection burden does not affect the deadline for the public to comment to BSEE and BOEM on the proposed regulations.

ADDRESSES: You may submit comments on BSEE's or BOEM's sections of the rulemaking by any of the following methods. For comments on this proposed rule and associated documents, please use the Regulation Identifier Number (RIN) 1082-AA01 as an identifier in your message.

• Federal eRulemaking Portal: http://www.regulations.gov. In the entry entitled, “Enter Keyword or ID,” enter BSEE-2019-0008, then click search. Follow the instructions to submit public comments and view supporting and related materials available for this rulemaking. BSEE and BOEM may post all submitted comments.

• Mail or hand-carry comments to the DOI, BSEE and BOEM: Attention: Regulations and Standards Branch, 45600 Woodland Road, VAE-ORP, Sterling, VA 20166. Please reference RIN 1082-AA01, “Oil and Gas and Sulfur Operations on the Outer Continental Shelf—Revisions to the Requirements for Exploratory Drilling on the Arctic Outer Continental Shelf,” in your comments, and include your name and return address.

• Send comments on the information collection in this rule to: Interior Desk Officer 1082-AA01, Office of Management and Budget; 202-395-5806 (fax); or via the online portal at RegInfo.gov. Please also send a copy to BSEE and BOEM by one of the means previously described.

• Public Availability of Comments: Before including your address, phone number, email address, or other personal identifying information in your comment, you should be aware that your entire comment—including your personal identifying information—may be made publicly available at any time. For BSEE and BOEM to withhold from disclosure your personal identifying information, you must identify any information contained in your comment submittal that, if released, would constitute a clearly unwarranted invasion of your personal privacy. You must also briefly describe any possible harmful consequence(s) of the disclosure of this information, such as embarrassment, injury, or other harm. While you may request in your comment that we withhold your personal identifying information from public access, we cannot guarantee that we will be able to do so.

FOR FURTHER INFORMATION CONTACT: For technical questions related to regulatory changes BSEE is proposing in Part 250, contact Mark E. Fesmire, BSEE, Alaska Regional Office, mark.fesmire@bsee.gov, (907) 334-5300. For technical questions related to regulatory changes BOEM is proposing in Part 550, contact Joel Immaraj, BOEM, Alaska Regional Office, joel.immaraj@boem.gov, (907) 334-5238. For procedural questions contact Bryce Barlan, BSEE, Regulations and Standards Branch, regs@bsee.gov, (703) 787-1126.

SUPPLEMENTARY INFORMATION: On December 9, 2020, the Department published the Proposed Rule: Oil and Gas and Sulfur Operations in the Outer Continental Shelf—Revisions to the Requirements for Exploratory Drilling on the Arctic Outer Continental Shelf and opened a 60-day public comment period, which closed February 8, 2021. After publication of the proposed rule, BSEE and BOEM received requests to extend the comment period on the proposed rule for 60 days. BSEE and BOEM are reopening the comment period for an additional 60 days to provide additional time for review of and comment on the Notice of Proposed Rulemaking. Accordingly, comments must be submitted by the extended due date of April 9, 2021. BSEE and BOEM may not fully consider comments received after this date.

Laura Daniel Davis,
Senior Advisor to the Secretary, Exercising the Delegated Authority of the Assistant Secretary, Land and Minerals Management, U.S. Department of the Interior.

[FR Doc. 2021-02799 Filed 2-8-21; 4:15 pm]

BILLING CODE 4310-VH-P; 4310-MR-P